DEPARTMENT OF THE INTERIOR

Bureau of Ocean Energy Management

[Docket No. BOEM-2015-0093; MMAA104000]

Outer Continental Shelf, Gulf of Mexico, Oil and Gas Lease Sale, Central Planning Area Lease Sale 247

AGENCY: Bureau of Ocean Energy Management (BOEM), Interior.

ACTION: Notice of Intent to Prepare a Supplemental Environmental Impact Statement and an Announcement of Scoping Meetings and Comment Period for Proposed Gulf of Mexico Outer Continental Shelf Oil and Gas Central Planning Area Lease Sale 247.

SUMMARY: Consistent with the regulations implementing the National Environmental Policy Act (NEPA), as amended (42 U.S.C. 4321 et seq.), BOEM is announcing its intent to prepare a Supplemental Environmental Impact Statement (EIS) for proposed Gulf of Mexico Outer Continental Shelf (OCS) Central Planning Area (CPA) Oil and Gas Lease Sale 247 (CPA 247 Supplemental EIS). The CPA 247 Supplemental EIS will expand or update the environmental and socioeconomic analyses in: Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS); Gulf of Mexico OCS Oil and Gas Lease Sales: 2013-2014; Western Planning Area Lease Sale 233; Central Planning Area Lease Sale 231, Final Supplemental Environmental Impact Statement (WPA 233/CPA 231 Supplemental EIS); Gulf of Mexico OCS Oil and Gas Lease Sales: 2015-2017; Central Planning Area Lease Sales 235, 241, and 247, Final Supplemental EIS (CPA 235/241/247 Supplemental EIS); and Central Planning Area Lease Sales 241 and 247 and Eastern Planning Area Lease Sale 226, Final Supplemental EIS (CPA 241/247 and EPA 226 Supplemental EIS).

The CPA 247 Supplemental EIS will supplement the NEPA documents cited above in order to consider new circumstances and information arising from, among other things, the Deepwater Horizon explosion, oil spill, and response. It will focus on updating the baseline conditions and any new information on the potential environmental effects of oil and natural gas leasing, exploration, development, and production in the CPA identified through the Area Identification procedure as the proposed lease sale area. In addition to the no action alternative (i.e., canceling a proposed lease sale), other alternatives may be considered for the proposed CPA lease sales, such as deferring certain areas from the proposed lease sale area.

DATES: Comments on the scope of the CPA 247 Supplemental EIS should be submitted by September 16, 2015.

FOR FURTHER INFORMATION CONTACT: For information on the CPA 247 Supplemental EIS or the submission of comments, please contact Mr. Gary D. Goeke, Chief, Environmental Assessment Section, Office of Environment (GM 623E), BOEM, Gulf of Mexico OCS Region, 1201 Elmwood Park Boulevard, New Orleans, LA 70123-2394, telephone 504-736-3233.

SUPPLEMENTARY INFORMATION: On August 27, 2012, the Secretary of the Interior approved the OCS Oil and Gas Leasing Program: 2012-2017 (2012-2017 Five Year Program). This Supplemental EIS will consider the last CPA sale for this 2012-2017 Five Year Program. Proposed CPA Lease Sale 247 is tentatively scheduled to be held in 2017.

Scoping Process: This Notice of Intent (NOI) serves to announce the scoping process for identifying issues for the CPA 247 Supplemental EIS. Throughout the scoping process, Federal, State, Tribal, and local governments and the general public have the opportunity to help BOEM determine significant resources and issues, impacting factors, reasonable alternatives, and potential mitigating measures to be analyzed in the CPA 247 Supplemental EIS, and to provide additional information. BOEM will also use the scoping process to inform the Section 106 consultation process of the National Historic Preservation Act (16 U.S.C. 470f), as provided for in 36 CFR 800.2(d)(3). Pursuant to the regulations implementing the procedural provisions of NEPA, the BOEM will hold public scoping meetings in Alabama, Louisiana and Mississippi on the CPA 247 Supplemental EIS. The purpose of these meetings is to solicit comments on the scope of the CPA 247 Supplemental EIS. BOEM's scoping meetings will be held at the following places and times:

• Mobile, Alabama: Tuesday, September 1, 2015, Hilton Garden Inn Mobile West, 828 West I-65 Service Road South, Mobile, Alabama 36609, one meeting beginning at 4:00 p.m. CDT;

• Gulfport, Mississippi: Wednesday, September 2, 2015, Courtyard by Marriott, Gulfport Beachfront MS Hotel, 1600 East Beach Boulevard, Gulfport, Mississippi 39501, one meeting beginning at 6:00 p.m. CDT; and

• New Orleans, Louisiana: Thursday, September 3, 2015, Bureau of Ocean Energy Management, Gulf of Mexico OCS Region, 1201 Elmwood Park Boulevard, New Orleans, Louisiana 70123, one meeting beginning at 1:00 p.m. CDT.

Cooperating Agency: BOEM invites other Federal, State, Tribal, and local governments to consider becoming cooperating agencies in the preparation of the CPA 247 Supplemental EIS. We invite qualified government entities to inquire about cooperating agency status for the CPA 247 Supplemental EIS. Following the guidelines from the Council on Environmental Quality (CEQ), qualified agencies and governments are those with “jurisdiction by law or special expertise.” Potential cooperating agencies should consider their authority and capacity to assume the responsibilities of a cooperating agency and should remember that an agency's role in the environmental analysis neither enlarges nor diminishes the final decision making authority of any other agency involved in the NEPA process. Upon request, BOEM will provide potential cooperating agencies with a written summary of ground rules for cooperating agencies, including time schedules and critical action dates, milestones, responsibilities, scope and detail of cooperating agencies' contributions, and availability of predecisional information. BOEM anticipates this summary will form the basis for a Memorandum of Agreement between BOEM and any cooperating agency pursuant to 43 CFR 46.225. Agencies should also consider DOI's implementing regulation at 43 CFR part 46 and the “Factors for Determining Cooperating Agency Status” in Attachment 1 to CEQ's January 30, 2002, Memorandum for the Heads of Federal Agencies: Cooperating Agencies in Implementing the Procedural Requirements of the National Environmental Policy Act. The CEQ documents are available at the following location on the Internet: http://energy.gov/sites/prod/files/nepapub/nepa_documents/RedDont/G-CEQCoopAgenciesImplem.pdf.

BOEM, as the lead agency, will not provide financial assistance to cooperating agencies. Even if an organization is not a cooperating agency, opportunities will exist to provide information and comments to BOEM during the normal public input stages of the EIS process. For further information about cooperating agencies, please contact Mr. Gary D. Goeke at (504) 736-3233.

Comments: All interested parties, including Federal, State, Tribal, and local governments, and other organizations and members of the public, may submit written comments on the scope of the CPA 247 Supplemental EIS, significant issues that should be addressed, alternatives that should be considered, potential mitigating measures, and the types of oil and gas activities of interest in the proposed CPA lease sale area. BOEM is also seeking public comment and input regarding the identification of historic properties or potential effects, as defined by the National Historic Preservation Act, to historic properties from the proposed action. Written comments may be submitted in one of the following ways:

1. Federal eRulemaking Portal: http://www.regulations.gov. In the field entitled “Search” enter “BOEM” and then click “search.” Under “Comment Period” select “Open” and under “Document Type” select “Notice”. Choose the “Notice” for “Oil and Gas Lease Sales: Gulf of Mexico, Outer Continental Shelf; Central Planning Area Lease Sale 247.” Follow the instructions to submit public comments and view supporting and related materials available for this notice;

2. U.S. mail in an envelope labeled “Scoping Comments for the CPA 247 Supplemental EIS” and mailed (or hand delivered) to Mr. Gary D. Goeke, Chief, Environmental Assessment Section, Office of Environment (GM 623E), BOEM, Gulf of Mexico OCS Region, 1201 Elmwood Park Boulevard, New Orleans, Louisiana 70123-2394. Comments must be postmarked by the last day of the comment period to be considered. As noted in the “Dates” section above, the comment period ends on September 16, 2015.

3. Via electronic mail to email address: cpa247@boem.gov.

Petitions, although accepted, do not generally provide useful information to assist in the development of alternatives, resources, and issues to be analyzed, or impacting factors. BOEM does not consider anonymous comments; please include your name and address as part of your submittal. BOEM makes all comments, including the names and addresses of respondents, available for public review during regular business hours. Before including your address, phone number, email address, or other personal identifying information in your comment, you should be aware that your entire comment—including your personal identifying information—may be made publicly available at any time. While you can ask us in your comment to withhold your personal identifying information from public review, we cannot guarantee that we will be able to do so.

Authority: This NOI to prepare a Supplemental EIS is published pursuant to the regulations (40 CFR 1501.7 and 43 CFR 46.435) implementing the provisions of NEPA.

Dated: August 11, 2015.
Walter D. Cruickshank,
Deputy Director, Bureau of Ocean Energy Management.

[FR Doc. 2015-20262 Filed 8-13-15; 11:15 am]

BILLING CODE 4310-MR-P